DEPARTMENT OF COMMERCE

National Oceanic and Atmospheric Administration

RIN 0648-XA419

Endangered and Threatened Species; Take of Anadromous Fish

AGENCY: National Marine Fisheries Service (NMFS), National Oceanic and Atmospheric Administration (NOAA), Commerce.

ACTION: Applications for one new scientific research permit and four research permit renewals.

SUMMARY: Notice is hereby given that NMFS has received five scientific research permit application requests relating to Pacific salmon, the southern Distinct Population Segment of eulachon, and Puget Sound/Georgia Basin rockfish. The proposed research is intended to increase knowledge of species listed under the Endangered Species Act (ESA) and to help guide management and conservation efforts.

DATES: Comments or requests for a public hearing on the applications must be received at the appropriate address or fax number (see ADDRESSES) no later than 5 p.m. Pacific standard time on June 9, 2011.

ADDRESSES: Written comments on the applications should be sent to the Protected Resources Division, NMFS, 1201 NE Lloyd Blvd., Suite 1100, Portland, OR 97232-1274. Comments may also be sent via fax to 503-230-5441 or by e-mail to nmfs.nwr.apps@noaa.gov. The applications may be viewed online at: https://apps.nmfs.noaa.gov/preview/preview_open_for_comment.cfm. Permit application instructions are available from the address above, or online at https://apps.nmfs.noaa.gov.

FOR FURTHER INFORMATION CONTACT: Garth Griffin, Portland, OR, ph.: 503-231-2005, Fax: 503-230-5441, e-mail: Garth.Griffin@noaa.gov.

SUPPLEMENTARY INFORMATION:

Species Covered in This Notice

The following listed species are covered in this notice:

Chinook salmon (Oncorhynchus tshawytscha): threatened Puget Sound (PS).

Steelhead (O. mykiss): threatened PS.

Chum salmon (O. nerka): Hood Canal (HC) summer-run.

Rockfish: Puget Sound/Georgia Basin (PS/GB) bocaccio (Sebastes paucispinis); PS/GB canary rockfish (Sebastes pinniger), and PS/GB yelloweye rockfish (Sebastes ruberrimus).

Eulachon: the southern Distinct Populations Segment (DPS) of pacific eulachon (Thaleichthys pacificus).

Authority

Scientific research permits are issued in accordance with section 10(a)(1)(A) of the ESA (16 U.S.C. 1531 et seq.) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1564-4R

The University of Washington (UW) is seeking to renew for five years a research permit that currently allows them to take juvenile PS Chinook salmon and PS steelhead. The research is designed to monitor the success of habitat restoration projects in the Duwamish River estuary, the Snohomish River estuary, and Shilshole Bay, Washington. The goal of these projects is to understand changes in population characteristics among Chinook salmon in response to estuarine habitat restoration actions. The habitat restoration work would be conducted by several entities, but primarily by the Port of Seattle and the City of Seattle. The habitat restoration projects are designed to improve habitats that Chinook salmon use for rearing and migration. Monitoring the restoration sites will help determine the projects' effectiveness and thereby guide future restoration projects for the benefit of listed salmonids in the area. The UW proposes to capture fish using enclosure nets and beach seines. The captured fish would be held in buckets with aerators and juvenile Chinook salmon would be checked for external marks and internal coded-wire tags, measured, and released. Some individuals would have their stomach contents sampled via non-lethal gastric lavage. The UW does not propose to kill any fish being captured but some may die as an unintentional result of the activities.

Permit 1585-3R

The Washington State Department of Natural Resources (DNR) is seeking to renew for five years a research permit that currently allows them to take juvenile PS Chinook salmon, HC summer-run chum salmon, and PS steelhead. The work would be carried out in the central Puget Sound Basin and would include surveys in many tributaries to the Sound from the Olympic and Cascade Mountain Ranges in Mason, Kitsap, King, Pierce, Thurston, Snohomish, and Lewis Counties, Washington. The purpose of the research is to determine fish presence or absence in streams greater than two feet in width between ordinary high water marks and with gradients of less than 20 percent. The information gathered would be used to determine salmonid presence and distribution and thereby inform land management decisions on DNR holdings. The DNR would use the information on fish-bearing streams to benefit the species by removing existing human-made fish barriers or possibly replacing them with structures that fish can pass over or through. They would annually use backpack electrofishing equipment to capture fish from several streams in the counties listed above. The captured fish would be identified and released back to the pools from which they came. In some cases, the researchers may not actually capture any fish, but merely to note their presence instead. The DNR does not propose to kill any of the fish being captured, but a small number may die as an unintended result of the activities.

Permit 1586-3R

The Northwest Fisheries Science Center (NWFSC) is seeking to renew for five years a research permit that currently allows them to take PS Chinook salmon, HC summer-run chum salmon, PS steelhead, and PS/GB bocaccio. The NWFSC research may also cause them to take the following species for which there are currently no ESA take prohibitions: The southern Distinct Population Segment of Pacific eulachon (Thaleichthys pacificus), PS/GB canary rockfish (Sebastes pinniger), and PS/GB yelloweye rockfish (Sebastes ruberrimus). The research is designed to determine how wild, juvenile PS Chinook salmon use nearshore habitats in the various oceanographic basins of Puget Sound, the Straits of Juan de Fuca, and the San Juan Islands. The study's additional goals are to define what life history strategies are present in these areas and identify their residence time, distribution, movement, timing, diet, health, age, and origin. This research would benefit the listed species by helping managers develop protection and restoration strategies and monitor the effects of recovery actions. The NMFSC would capture fish on a monthly basis using a variety of sampling gear (primarily beach seines and surface trawls), temporarily hold fish in live-wells, mesh pens, aerated buckets (or in the bag of the net). The captured fish would be anesthetized, measured, weighed, checked for tags, marks, and fin clips, allowed to recover from anesthesia, and released. A small portion of the captured juvenile PS Chinook would be killed for whole body analysis, but most are not intended to be sacrificed. Any fish unintentionally killed during the research would be used in place of a fish that would otherwise be sacrificed.

Permit 1587-4R

The U.S. Geological Survey (USGS) is seeking to renew for five years a research permit that currently allows them to take juvenile PS Chinook salmon and PS steelhead. The work would take place in the northern Puget Sound (San Juan Island and Samish Bay), the Whidbey Basin (Skagit Bay), the southern Puget Sound (Nisqually Delta), Admiralty Inlet (including Foulweather Bluff), and the Strait of San Juan de Fuca. The research would be divided into two projects: (1) Restoration of Puget Sound deltas and (2) effects of urbanization on nearshore ecosystems. The studies' goals are to understand large river delta ecosystems and the physio-chemical processes associated with altering nearshore habitats, e.g., trophic web effects, plant and animal community dynamics, and forage fish population fluctuations. The USGS would sample once per month in each area from April through September, but extra sampling (1-8 days per quarter) may sometimes be needed. Lampara nets would be the primary capture method, but beach seines, dip nets, gill nets, and angling may also be used. The researchers would identify, weigh, and measure any captured fish. All captured salmonids would immediately be processed and released near their capture location. Forage fish would be counted, measured, weighed, and some may be sacrificed for otoliths, genetics, and fish health assays. All sampling plans would be reviewed and approved by the USGS Institutional Animal Care and Use Committee before being implemented. The researchers do not propose to kill any of the listed salmonids being captured, but a small number may die as an unintended result of the activities.

Permit 16302

The UW is seeking a 3-year research permit to annually take juvenile PS Chinook salmon and PS steelhead. The UW would conduct fish surveys along the Elliott Bay seawall between piers 48 and 70, with reference sites in other parts of Elliott Bay. The purpose of the survey is to determine fish presence, use, and behavior in the Elliot Bay seawall reconstruction project area. It would also help establish pre-construction baseline conditions for the Elliott Bay seawall project and support the development of the project's environmental impact statement and other supporting environmental documentation. The fieldwork would continue for at least 18 months, with sampling every month. The work would benefit the fish by helping managers minimize or mitigate any impact the seawall project may have on them as it goes forward. The UW would capture fish using purse seines and beach seines. The majority (75%) of the juvenile Chinook salmon and steelhead would be counted, checked for external marks and internal coded-wire tags, measured, and released. The other 25% of the captured juvenile Chinook and steelhead would have their stomach contents sampled before being released. The UW does not propose to kill any fish being captured but some may die as an unintentional result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: May 5, 2011.
Angela Somma,
Chief, Endangered Species Division, Office of Protected Resources, National Marine Fisheries Service.

[FR Doc. 2011-11449 Filed 5-9-11; 8:45 am]

BILLING CODE 3510-22-P